ENVIRONMENTAL PROTECTION AGENCY

[FRL-9475-2]

National Drinking Water Advisory Council; Request for Nominations

AGENCY: Environmental Protection Agency (EPA).

ACTION: Request for Nominations.

SUMMARY: The EPA invites nominations from a diverse range of qualified candidates to be considered for a three-year appointment to the National Drinking Water Advisory Council (Council). The 15 member Council was established by the Safe Drinking Water Act (SDWA) to provide practical and independent advice, consultation and recommendations to the EPA Administrator on the activities, functions, policies, and regulations required by the SDWA. This notice solicits nominations to fill five (5) new vacancies through December 15, 2014. To maintain the representation required by statute, nominees will be selected to represent: State and local agencies (one vacancy), organizations or groups demonstrating an active interest in the field of public water supply and public health protection (two vacancies), and the general public (two vacancies).

DATES: Nominations should be submitted on or before October 31, 2011.

ADDRESSES: Submit nominations to Suzanne Kelly, Designated Federal Officer, National Drinking Water Advisory Council, U.S. Environmental Protection Agency, Office of Ground Water and Drinking Water (Mail Code 4601-M), 1200 Pennsylvania Avenue, NW., Washington, DC 20460. You may also e-mail nominations with the subject line NDWACResume2012 at kelly.suzanne@epa.gov.

FOR FURTHER INFORMATION CONTACT: E-mail your questions to Jacquelyn Springer, at springer.jacquelyn@epa.gov or call 202-564-9904.

SUPPLEMENTARY INFORMATION:

National Drinking Water Advisory Council: The Council was created by Congress on December 16, 1974, as part of the Safe Drinking Water Act of 1974, Public Law 93-523, 42 U.S.C. 300j-5 and is operated in accordance with the provisions of the Federal Advisory Committee Act (FACA), 5 U.S.C. App.2. The Council consists of 15 members, including a Chairperson, appointed by EPA's Deputy Administrator. Five members represent the general public; five members represent appropriate State and local agencies concerned with water hygiene and public water supply; and five members represent private organizations or groups demonstrating an active interest in the field of water hygiene and public water supply, of which two members shall represent small, rural public water systems. The current list of members is available on the EPA Web site at: http://water.epa.gov/drink/ndwac/.

The Council meets face-to-face twice each year, generally in the spring and fall. Additionally, members may be asked to participate in teleconference meetings or ad hoc workgroups to develop policy recommendations, advice letters and reports to address specific program issues.

Member Nominations: Any interested person and/or organization may nominate qualified individuals for membership. The EPA values and welcomes diversity. In an effort to obtain nominations of diverse candidates, the agency encourages nominations of women and men of all racial and ethnic groups.

All nominations will be fully considered, but applicants need to be aware of the specific representation required by statute: State and local agencies concerned with public water supply (one vacancy), organizations or groups demonstrating an active interest in the field of public water supply and public health protection (two vacancies, one associated with small, rural public water systems), and the general public (two vacancies). Other criteria used to evaluate nominees will include:

• Background and experience that would help members to contribute to the diversity of perspectives (e.g., geographic, economic, social and cultural);

• Demonstrated experience with drinking water issues at the national, State or local level; and

• Excellent interpersonal, oral and written communication and consensus-building skills.

Nominations must include a resume, providing the nominee's background, experience and educational qualifications, as well as a brief statement (one page or less) describing the nominee's interest in serving on the Council. Nominees should be identified by name, occupation, position, current business address, and e-mail and telephone number. Interested candidates may self nominate.

Persons selected for membership will receive compensation for travel and a nominal daily compensation (if appropriate) while attending meetings. Additionally, selected candidates will be required to fill out the “Confidential Financial Disclosure Form for EPA Special Government Employees.” This confidential form allows government officials to determine whether there is a statutory conflict between that person's public responsibilities (which includes membership on an EPA Federal advisory committee) and private interests and activities, or the appearance of a lack of impartiality, as defined by Federal regulation.

Other sources, in addition to this Federal Register notice, may also be utilized in the solicitation of nominees. To help the EPA in evaluating the effectiveness of its outreach efforts, please tell us how you learned of this opportunity.

Dated: September 28, 2011.
Cynthia C. Dougherty,
Director, Office of Ground Water and Drinking Water.

[FR Doc. 2011-25501 Filed 10-3-11; 8:45 am]

BILLING CODE 6560-50-P